DEPARTMENT OF COMMERCE

National Oceanic and Atmospheric Administration

[Docket No. 000913258-0258-01; I.D. No 091100C]

RIN: 0648-ZA93

Announcement of Funding Opportunity for Research Project Grants

AGENCY: Center for Sponsored Coastal Ocean Research/Coastal Ocean Program (CSCOR/COP), National Ocean Service (NOS), National Oceanic and Atmospheric Administration (NOAA), Department of Commerce (DOC).

ACTION: Solicitation of proposals for undergraduate, graduate, and recently graduated students concerning career development in coastal ocean science, management, and policy.

SUMMARY: The purpose of this document is to advise the public that CSCOR/COP is soliciting 1-year and 2-year proposals for career development programs commencing in late Fiscal Year (FY 2001) with an anticipated start date of July 1, 2001. The purpose of these awards will be to support activities designed to facilitate and/or enhance the development of qualified professionals in the fields of coastal ocean science, management, and policy. The coastal ocean is inclusive of the near shore ocean, estuaries, and the Great Lakes.

This notice solicits applications for proposals from eligible non-Federal applicants. Proposals selected for funding from non-Federal researchers will be funded through a project grant. Proposals from academic institutions, particularly those that are Minority Serving Institutions (MSIs), collaborate with MSIs, or serve minority students, are strongly encouraged.

DATES: The deadline for receipt of proposals at the COP office is 3 p.m., EST, January 23, 2001. Note that late-arriving applications that were provided to a delivery service on or before January 22, 2001, with delivery guaranteed before 3 p.m., EST, on January 23, 2001, will be accepted for review if the applicant can document that the application was provided to the delivery service with delivery to the address listed below guaranteed prior to the specified closing date and time. Subject to the availability of funds and facilities, it is anticipated that final decisions on awards will be made by early March, 2001.

ADDRESSES: Submit the original and 10 copies of your proposal to the Coastal Ocean Program Office (Career 2001), SSMC #3, 9th Floor, Station 9700, 1315 East-West Highway, Silver Spring, MD 20910. NOAA and COP Standard Form Applications with instructions are accessible on the COP Internet site (http://www.cop.noaa.gov) under the COP Grants Support Section, Part D, Application Forms for Initial Proposal Submission. Forms may be viewed, and in most cases, filled in by computer. All forms must be printed, completed, and mailed to CSCOR/COP with original signatures. Blue ink for original signatures is recommended but not required. If you are unable to access this information, you may call CSCOR/COP at 301-713-3338 to leave a mailing request.

FOR FURTHER INFORMATION CONTACT: Technical Information: Susan Banahan, Career 2001 Program Manager, COP Office, 301-713-3338/ext 115, Internet: Susan.Banahan@noaa.gov;

Business Management Information: Leslie McDonald, COP Grants Administrator, 301-713-3338/ext 137, Internet: Leslie.McDonald@noaa.gov.

Further information on this program may be viewed at the COP internet site.

SUPPLEMENTARY INFORMATION:

Background

Program Description

For complete Program Description and Other Requirements for the COP, see the General Grant Administration Terms and Conditions of the Coastal Ocean Program published in the Federal Register (65 FR 62706, October 19, 2000) and at the COP home page.

CSCOR/COP supports research programs designed to address critical management issues in the Nation’s estuaries, coastal waters, and the Great Lakes. Its primary objective is to provide decision makers with high quality scientific information appropriate to promoting near-term improvements in coastal ecosystem management.

In support of that objective, CSCOR/COP recognizes the need to foster the development of qualified professionals in the fields of coastal ocean science, management, and policy. It is the intent of CSCOR/COP to augment NOAA’s existing programs in research and education and to increase the participation of minorities and under-represented students in coastal ocean sciences and resource management. The COP is soliciting proposals describing a coherent program designed to develop techniques and skills in professional networking, job hunting, proposal writing, and in preparation of presentations, and publishing for recent graduates, graduate or undergraduate students, including minorities or under-represented students considering careers in coastal ocean science, resource management and policy.

Examples of such activities could include, but are not limited to establishing an invited speaker series; mini-courses, workshops, or special sessions at national meetings (e.g., sessions on career options in research, management agencies, consulting, environmental education, non-governmental organizations, and so forth.); funding to support student attendance, including minority and under-represented students, at appropriate national meetings or workshops; establishing networking or instructional websites; and establishing mentoring programs and/or internships with research institutes, management offices, non-governmental agencies, etc. This announcement is not soliciting proposals for research projects.

Proposals should provide detailed descriptions and time line for proposed activities, including any reports to be generated. Where appropriate, letters indicating collaboration with other entities or investigators not named in the proposal should be included. Proposals should also include the means to evaluate and measure project effectiveness.

Part I: Schedule and Proposal Submission

This notice requests full proposals only. The provisions for proposal preparation provided here are mandatory. Proposals received after the published deadline or proposals that deviate from the prescribed format will be returned to the sender without further consideration. Information regarding this announcement, additional background information, and required Federal forms are available on the COP home page.

Full Proposals

Applications submitted in response to this announcement require an original proposal and 10 proposal copies at time of submission. This includes color or high-resolution graphics, unusually sized materials (i.e., not 8.5 x 11 inches or 21.6 cm x 28 cm), or otherwise unusual materials submitted as part of the proposal. For color graphics, submit either color originals or color copies. The stated requirements for 10 proposal copies provide for a timely review process. Facsimile transmissions and electronic mail submission of full proposals will not be accepted.

Required Elements

All recipients must closely follow the following seven elements in the preparation of proposals. Part II: Further Supplementary Information of this Document provides additional, necessary information.

(1) Signed summary title page: The title page should be signed by the Principal Investigator (PI) and the institutional representative. The summary title page identifies the project's title starting with “Career 2001,” a short title ( less than 50 characters), and the lead PI's name and affiliation, complete address, phone, FAX, and E-mail information. The requested budget for each fiscal year should be included on the summary title page. Multi-institution proposals must include signed summary title pages from each institution.

(2) One-page abstract/project summary: The Project Summary (Abstract) Form, which is to be submitted at time of application, shall include an introduction describing the program/department and institution in which the career development activities will be conducted, the career development activity(s) to be completed, and the expected outcome(s). The prescribed COP format for the Project Summary Form can be found on the COP Internet site under the COP Grants Support section, Part D.

The summary should appear on a separate page, headed with the proposal title, institution(s), investigator(s), total proposed cost, and budget period. It should be written in the third person. The summary helps compare proposals quickly and allows the respondents to summarize these key points in their own words.

(3) Statement of work/project description: The project description section must not exceed eight pages. Page limits are inclusive of figures and other visual materials, but exclusive of references and milestone chart. The proposed 1- or 2-year project must be completely described, including a brief description of the academic program. The description of career development objectives, proposed activities, participants, and means of measuring effectiveness, and a brief synopsis of relevant results from any similar career development programs supervised by the proposing investigator(s) must be included.

Project management should be clearly identified with a description of the functions of each investigator, if more than one. A full justification, not a reiteration of the justifications presented in this document, must be provided. This section should also include:

(a) The objective for the period of proposed work and its expected significance and impact.

(b) The relation to other ongoing career development activities and/or programs.

(c) A discussion of how the proposed project lends value to the stated COP objectives.

(d) Potential coordination with other investigators, programs, departments, or institutions.

(e) References cited. Reference information is required. Each reference must include the names of all authors in the same sequence in which they appear in the publications, the article title, volume number, page numbers, and year of publications. This section should include bibliographic citations only and should not be used to provide parenthetical information outside the 8-page project description.

(4) Milestone chart: Provide time lines of major tasks covering the duration of the proposed project, up to 24 months.

(5) Budget and Application Forms: Both NOAA and COP-specific application forms may be obtained at the COP Grants website. Forms may be viewed, and in most cases, filled in by computer. All forms must be printed, completed, and mailed to CSCOR/COP; original signatures in blue ink are encouraged. If applicants are unable to access this information they may call the CSCOR/COP grants administrator listed in the section FOR FURTHER INFORMATION CONTACT.

At time of proposal submission, all applicants shall submit the Standard Form, SF-424 (Rev 7-97) Application for Federal Assistance, to indicate the total amount of funding proposed for the whole project period. Applicants will also submit a COP Summary Proposal Budget Form for each fiscal year increment. Multi-institution proposals must include a Summary Proposal Budget Form from each institution.

Use of this budget form will provide for a detailed annual budget and for the level of detail required by the COP program staff to evaluate the effort to be invested by investigators and staff on a specific project. The COP budget form is compatible with forms in use by other agencies that participate in joint projects with COP and can be found on the COP home page under COP Grants Support, Part D, or may be requested from the COP Grants Administrator.

All applicants shall include a budget narrative and a justification that support all proposed budget categories. The program office will review the proposed budgets to determine the necessity and adequacy of proposed costs for accomplishing the objectives of the proposed grant.

Applicants who are subsequently recommended for award will be instructed to furnish the other required standard NOAA forms provided on the COP home page.

(6) Biographical sketch: With each proposal, there should be an abbreviated curriculum vitae, two pages per investigator, and a list of all persons (including their organizational affiliation), in alphabetical order, who have collaborated on a project, book, article, or paper within the last 48 months. If there are no collaborators, this should be so indicated. Students, post-doctoral associates, and graduate and postgraduate advisors of the PI should also be disclosed. This information helps to identify potential conflicts of interest or bias in the selection of reviewers.

(7) Proposal format and assembly: The original proposal should be clamped in the upper left-hand corner, but left unbound. The 10 required copies can be stapled in the upper left-hand corner or bound on the left edge. The page margin must be one inch (2.5 cm) margins at the top, bottom, left and right, and the type face standard 12 points size must be clear and easily legible.

Part II: Further Supplementary Information

(1) Program authorities: For a list of all program authorities for the Coastal Ocean Program, see General Grant Administration Terms and Conditions of the Coastal Ocean Program published in the Federal Register (65 FR 62706, October 19, 2000) and at the COP home page. Specific authority cited for this announcement is 15 U.S.C. 1540.

(2) Catalog of Federal Domestic Assistance Number: 11.478 Coastal Ocean Program.

(3) Program description: For complete COP program descriptions, see General Grant Administration Terms and Conditions of the Coastal Ocean Program published in the Federal Register (65 FR 62706, October 19, 2000).

(4) Funding availability: Funding is contingent upon the availability of Federal appropriations for FY 2001 and FY 2002. It is anticipated that up to a total of $100,000 will be available per fiscal year in FY 2001 and FY 2002 for supporting activities proposed by submissions to this announcement.

If an application is selected for funding, DOC/NOAA has no obligation to provide any additional future funding in connection with that award beyond the specified period of performance. Renewal of an award or amendment of an award to increase funding or to extend the period of performance is based on satisfactory performance and is at the total discretion of the DOC/NOAA.

Publication of this document does not obligate the COP to any specific award or to any part of the entire amount of funds available. Recipients and subrecipients are subject to all Federal laws and agency policies, regulations, and procedures applicable to Federal financial assistance awards.

(5) Matching requirements: None.

(6) Eligibility criteria: Eligible applicants are institutions of higher education and other non-profits. All applications will be competed against each other. Proposals selected for funding from non-Federal applicants will be funded through a project grant or a cooperative agreement under the terms of this notice.

Minority Serving Institutions (MSIs) are especially encouraged to submit proposals. Other academic institutions are encouraged to collaborate with MSI(s). MSI(s) include institutions of higher education identified by the Department of Education as Historically Black Colleges and Universities, Hispanic Serving Institutions or Tribal Colleges and Universities.

DOC requirements will prevail if there is a conflict between those requirements and institutional requirements. Federal employees may not apply for funding, however Federal employees may be included in projects as unfunded collaborators.

(7) Award period: Full Proposals should cover a project period of 1 or 2 years, with a start date of July 1, 2001. Multi-year project period funding may be funded incrementally on an annual basis; but, once awarded, multi-year projects will not compete for funding in the subsequent year. Each award shall require a Statement of Work which represents substantial accomplishments that can be easily separated into annual increments if prospective funding is not made available, or is discontinued.

(8) Indirect costs: If indirect costs are proposed, the following statement applies: The total dollar amount of the indirect costs proposed in an application must not exceed the indirect cost rate negotiated and approved by a cognizant Federal agency prior to the proposed effective date of the award.

(9) Project funding priorities: For description of project funding priorities, see General Grant Administration Terms and Conditions of the COP published in the Federal Register (65 FR 62706, October 19, 2000) and at the COP home page.

(10) Evaluation criteria: The following criteria and assigned evaluation weights will be used for evaluating proposals:

(a) Rationale (10 percent): How well the proposed project addresses the stated objectives;

(b) Approach (10 percent): Innovativeness of the project approach to meeting its stated objectives;

(c) Program Plan (40 percent): Program plans should explain the following: the effectiveness of the proposed activities in furthering the careers of students and/or recent graduates, including minority and under-represented students, in the coastal ocean sciences, resource management, and policy; how the proposed activities will complement existing in-house programs; what new opportunities will be developed for students and the expected outcomes; how many students are expected to participate; what type of plan is developed for determining the effectiveness of the project, especially in terms of impact on student and/or recent graduates opportunities; how proposed activities will be accomplished within the grant period; and upon completion of the project, how the activities will be incorporated into the institution’s programs;

(d) Qualifications of the Project Personnel (20 percent): Qualifications and demonstrated ability of the investigators within their area of expertise; the ability of the investigators to complete the proposed project successfully; previous experience of investigator in managing or designing educational enhancement programs; and participating institute has the appropriate resources to carry out the proposed activities;

(e) Linkages (10 percent): Collaboration with other programs, departments, MSI, or other educational, research, or management institutions;

(f) Costs (10 percent): The proposed budget is reasonable and adequate to accomplish the proposed work within the specified period of performance.

(11) Selection procedures: For complete information on selection procedures, refer to General Grant Administration Terms and Conditions of the COP published in the Federal Register (65 FR 62706, October 19, 2000) and at the COP home page. All proposals received under this specific Federal Register notice will be evaluated and ranked individually in accordance with the assigned weights of the above evaluation criteria through independent peer review. Both Federal and non-Federal experts in the field may be used in this process.

Investigators may be asked to modify objectives, work plans or budgets, and provide supplemental information required by the DOC/NOAA prior to the award. When a decision has been made (whether an award or declination), verbatim copies of reviews and summaries of review panel deliberations, if any, will be made available to the proposer.

(12) Other requirements: Intergovernmental Review: Applications under this program are not subject to Executive Order 12372, “Intergovernmental Review of Federal Programs.” For a complete description of other requirements, see General Grant Administration Terms and Conditions of the COP published in the Federal Register (65 FR 62706, October 19, 2000) and at the COP Home Page.

(13) Pursuant to Executive Orders 12876, 12900, and 13021, DOC/NOAA is strongly committed to broadening the participation of Historically Black Colleges and Universities, Hispanic Serving Institutions, and Tribal Colleges and Universities in its educational and research programs. The DOC/NOAA vision, mission, and goals are to achieve full participation by MSI(s) in order to advance the development of human potential, to strengthen the nation’s capacity to provide high-quality education, and to increase opportunities for MSI to participate in, and benefit from, Federal Financial Assistance programs. DOC/NOAA encourages all applicants to include meaningful participation of MSI(s).

(14) Applicants are hereby notified that they are encouraged, to the greatest practicable extent, to purchase American-made equipment and products with funding provided under this program.

(15) This notification involves collection-of-information requirements subject to the Paperwork Reduction Act (PRA). The use of Standard Forms 424, 424A, 424B, and SF-LLL has been approved by the Office of Management and Budget (OMB) under control numbers 0348-0043, 0348-0044, 0348-0040 and 0348-0046.

The following requirements have been approved by OMB under control number 0648-0384; a Summary Proposal Budget Form (30 minutes per response), a Project Summary Form (30 minutes per response), a standardized format for the Annual Performance Report (5 hours per response), a standardized format for the Final Report (10 hours per response), and the submission of up to 20 copies of proposals (10 minutes per response). The response estimates include the time for reviewing instructions, searching existing data sources, gathering and maintaining the data needed, and completing and reviewing the collection of information. Send comments regarding this burden estimate or any other aspect of this collection of information, including suggestions for reducing this burden, to Leslie.McDonald@noaa.gov. Copies of these forms and formats can be found on the COP home page under Grants Support sections, Parts D and F.

Notwithstanding any other provision of law, no person is required to respond to, nor shall any person be subject to a penalty for failure to comply with a collection of information subject to the requirements of the PRA unless that collection displays a currently valid OMB control number.

Dated: December 1, 2000.
John Oliver,
Director, Management and Budget Office, National Ocean Service.

[FR Doc. 00-31328 Filed 12-7-00; 8:45 am]

BILLING CODE 3510-JS-S